DEPARTMENT OF COMMERCE

National Telecommunications and Information Administration

First Responder Network Authority

[Docket Number: 150306226-5315-02]

RIN 0660-XC017

Further Proposed Interpretations of Parts of the Middle Class Tax Relief and Job Creation Act of 2012

AGENCY: First Responder Network Authority, National Telecommunications and Information Administration, U.S. Department of Commerce.

ACTION: Notice and request for comments; extension of comment period.

SUMMARY: The First Responder Network Authority (FirstNet) published a notice and request for comments in the Federal Register on March 13, 2015, titled “Further Proposed Interpretations of Parts of the Middle Class Tax Relief and Job Creation Act of 2012” (Second Notice). The comment period for the Second Notice, which would have ended on April 13, 2015, is extended to April 28, 2015.

DATES: Comments must be submitted on or before April 28, 2015.

ADDRESSES: Written comments may be submitted electronically through www.regulations.gov or by mail to First Responder Network Authority, National Telecommunications and Information Administration, U.S. Department of Commerce, 12201 Sunrise Valley Drive, M/S 243, Reston, VA 20192. Comments received related to the Second Notice will be made a part of the public record and will be posted to www.regulations.gov without change. Comments should be machine-readable and should not be copy-protected. Comments should include the name of the person or organization filing the comment as well as a page number on each page of the submission. All personally identifiable information (e.g., name, address) voluntarily submitted by the commenter may be publicly accessible. Do not submit confidential business information or otherwise sensitive or protected information.

FOR FURTHER INFORMATION CONTACT: Eli Veenendaal, First Responder Network Authority, National Telecommunications and Information Administration, U.S. Department of Commerce, 12201 Sunrise Valley Drive, M/S 243, Reston, VA 20192; 703-648-4167; or elijah.veenendaal@firstnet.gov.

SUPPLEMENTARY INFORMATION: On March 13, 2015, FirstNet published a notice and request for comments in the Federal Register, titled “Further Proposed Interpretations of Parts of the Middle Class Tax Relief and Job Creation Act of 2012” (80 FR 13336). That Federal Register notice listed April 13, 2015, as the end date for the comment period. FirstNet is extending the comment deadline from April 13, 2015, to April 28, 2015. This extension responds to numerous inquiries from interested parties that have requested additional time to respond based on the significant nature of the Second Notice. All other information in the original notice remains unchanged.

Dated: March 31, 2015.
Eli Veenendaal,
Attorney-Advisor, First Responder Network Authority.

[FR Doc. 2015-07691 Filed 4-6-15; 8:45 am]

BILLING CODE CODE 3510-TL-P